DEPARTMENT OF TRANSPORTATION

Federal Aviation Administration

14 CFR Part 39

[Docket No. FAA-2007-28384; Directorate Identifier 2006-NM-165-AD; Amendment 39-15516; AD 2008-10-10]

RIN 2120-AA64

Airworthiness Directives; Boeing Model 737-600, -700, -700C, -800, and -900 Series Airplanes

AGENCY: Federal Aviation Administration (FAA), DOT.

ACTION: Final rule.

SUMMARY: We are adopting a new airworthiness directive (AD) for certain Boeing Model 737-600, -700, -700C, -800, and -900 series airplanes. This AD requires revising the Airworthiness Limitations (AWLs) section of the Instructions for Continued Airworthiness by incorporating new limitations for fuel tank systems to satisfy Special Federal Aviation Regulation No. 88 requirements. This AD also requires the initial inspection of a certain repetitive AWL inspection to phase in that inspection, and repair if necessary. This AD results from a design review of the fuel tank systems. We are issuing this AD to prevent the potential for ignition sources inside fuel tanks caused by latent failures, alterations, repairs, or maintenance actions, which, in combination with flammable fuel vapors, could result in a fuel tank explosion and consequent loss of the airplane.

DATES: This AD is effective June 12, 2008.

The Director of the Federal Register approved the incorporation by reference of a certain publication listed in this AD as of June 12, 2008.

ADDRESSES: For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Samuel Spitzer, Aerospace Engineer, Propulsion Branch, ANM-140S, FAA, Seattle Aircraft Certification Office, 1601 Lind Avenue, SW., Renton, Washington 98057-3356; telephone (425) 917-6510; fax (425) 917-6590.

SUPPLEMENTARY INFORMATION:

Discussion

We issued a notice of proposed rulemaking (NPRM) to amend 14 CFR part 39 to include an airworthiness directive (AD) that would apply to certain Boeing Model 737-600, -700, -700C, -800, and -900 series airplanes. That NPRM was published in the Federal Register on July 6, 2007 (72 FR 36920). That NPRM proposed to require revising the Airworthiness Limitations (AWLs) section of the Instructions for Continued Airworthiness (ICA) by incorporating new limitations for fuel tank systems to satisfy Special Federal Aviation Regulation No. 88 requirements. That NPRM also proposed to require the initial inspection of a certain repetitive AWL inspection to phase in that inspection, and repair if necessary.

Actions Since NPRM Was Issued

Since we issued the NPRM, Boeing has issued Temporary Revision (TR) 09-020, dated March 2008. Boeing TR 09-020 is published as Section 9 of the Boeing 737-600/700/800/900 Maintenance Planning Data (MPD) Document, D626A001-CMR, Revision March 2008 (hereafter referred to as “Revision March 2008 of the MPD”). The NPRM referred to Revision March 2006 of the MPD as the appropriate source of service information for accomplishing the proposed actions. Revision March 2008 of the MPD, among other actions, includes the following changes:

• Removes the repetitive task interval of 36,000 flight cycles from AWLs No. 28-AWL-01 and No. 28-AWL-03.

• Revises the task description for AWL No. 28-AWL-01 to harmonize it with AWL No. 28-AWL-02 by removing references to certain station numbers.

• Revises AWL No. 28-AWL-03 to reflect the new maximum loop resistance values associated with the lightning protection of the unpressurized fuel quantity indicating system (FQIS) wire bundle installations.

Accordingly, we have revised paragraphs (f), (g), and (h) of this AD to refer to Revision March 2008 of the MPD. We also have added a new paragraph (j) to this AD specifying that actions done before the effective date of this AD in accordance with Revisions March 2006 through February 2008 of the MPD are acceptable for compliance with the corresponding requirements of paragraphs (g) and (h) of this AD. (In Revision March 2007 of the MPD, Boeing revised the document title to “737-600/700/800/900.”)

We also have removed reference to 36,000 total flight cycles from paragraph (h)(1) of this AD and revised the initial threshold for accomplishing AWL No. 28-AWL-03 to within 120 months since the date of issuance of the original standard airworthiness certificate or the date of issuance of the original export certificate of airworthiness.

Since publication of Revision March 2006 of the MPD, Boeing has revised the contents of certain subsections of the MPD. Information pertaining to the fuel system AWLs has been removed from Subsection D, “AIRWORTHINESS LIMITATIONS—SYSTEMS” and placed into a new Subsection E, “AIRWORTHINESS LIMITATIONS—FUEL SYSTEMS.” The subsequent subsections of the MPD were reidentified accordingly. Therefore, we have revised paragraphs (g)(1), (g)(2), and (g)(3) of this AD to refer to Subsections E, F, and G, respectively.

Operators should note that we have revised paragraph (g) of this AD to require incorporating only AWLs No. 28-AWL-01 through No. 28-AWL-22 inclusive. AWL No. 28-AWL-23 was added in Revision May 2006 of the MPD, and AWL No. 28-AWL-24 was added in Revision October 2006 of the MPD. However, as an optional action, operators may incorporate those two AWLs as specified in paragraph (g) of this AD.

Operators should also note that we have issued a separate NPRM (Docket No. FAA-2007-28661) that, in part, proposes to incorporate AWLs No. 28-AWL-19 and No. 28-AWL-23 into the AWLs section of the ICA. That NPRM was published in the Federal Register on July 10, 2007 (72 FR 37479).

We have also issued AD 2008-06-03, amendment 39-15415 (73 FR 13081, March 12, 2008) that, in part, requires revising the AWLs section of the ICA to incorporate AWLs No. 28-AWL-21, No. 28-AWL-22, and No. 28-AWL-24. Therefore, we have added a new paragraph (k) to this AD specifying that incorporating AWLs No. 28-AWL-21, No. 28-AWL-22, and No. 28-AWL-24 in accordance with paragraph (g) of this AD terminates the action required by paragraph (h)(1) of AD 2008-06-03.

Other Changes Made to This AD

For standardization purposes, we have revised this AD in the following ways:

• We have added a new paragraph (i) to this AD to specify that no alternative inspections, inspection intervals, or critical design configuration control limitations (CDCCLs) may be used unless they are part of a later approved revision of Revision March 2008 of the MPD, or unless they are approved as an alternative method of compliance (AMOC). Inclusion of this paragraph in the AD is intended to ensure that the AD-mandated airworthiness limitations changes are treated the same as the airworthiness limitations issued with the original type certificate.

• We have revised Note 2 of this AD to clarify that an operator must request approval for an AMOC if the operator cannot accomplish the required inspections because an airplane has been previously modified, altered, or repaired in the areas addressed by the required inspections.

• We have revised paragraph (h) of this AD to specify that accomplishing AWL No. 28-AWL-03 as part of an FAA-approved maintenance program before the applicable compliance time constitutes compliance with the applicable requirements of that paragraph.

Comments

We gave the public the opportunity to participate in developing this AD. We considered the comments received from the six commenters.

Request To Revise the Loop Resistance Values for AWL No. 28-AWL-03

Boeing and KLM Royal Dutch Airlines (KLM) state that the loop resistance values for AWL No. 28-AWL-03 specified in Revision March 2006 of the MPD are going to be revised, since those values are relevant for production airplanes. The commenters also state that the revised values will be more representative of the expected values for in-service airplanes. Boeing points out that, according to paragraph (h) of the NPRM, the revised values should be able to be used in accordance with a later revision of the MPD if the revision is approved by the Seattle Aircraft Certification Office (ACO), FAA.

We agree that operators may use the revised loop resistance values for AWL No. 28-AWL-03 in accordance with Revision March 2008 of the MPD. As stated previously, we have revised this AD accordingly.

Request To Extend the Task Intervals for Certain AWL Inspections

KLM, on behalf of several operators, requests that we review a 45-page proposal to align certain airworthiness limitation item (ALI) intervals with the applicable maintenance significant item (MSI) and enhanced zonal analysis procedure (EZAP) intervals for Model 737, 747, 757, 767, and 777 airplanes. The recommendations in that proposal ensure that the ALI intervals align with the maintenance schedules of the operators. Among other changes, the proposal recommends extending certain AWL inspection intervals from 10 years/36,000 flight cycles to 12 years for Model 737-600, -700, -700C, -800, and -900 series airplanes.

The Air Transport Association (ATA), on behalf of its member Delta Airlines (DAL), notes an inconsistency between the inspection interval specified in Revision March 2006 of the MPD and the compliance threshold specified in paragraph (h)(1) of the NPRM. Paragraph (h)(1) of the NPRM specifies accomplishing the initial inspection prior to the accumulation of 36,000 total flight hours, or 120 months since the date of issuance of the original standard airworthiness certificate or the date of issuance of the original export certificate of airworthiness, whichever occurs first. DAL requests that we revise the compliance threshold to 36,000 “total flight cycles.”

We disagree with KLM's request to extend certain AWL inspection intervals to 12 years. However, as stated previously, we have deleted the 36,000-total-flight-hour parameter from paragraph (h)(1) of this AD to correspond with the task interval for AWL No. 28-AWL-03 as specified in Revision March 2008 of the MPD. In developing an appropriate compliance time for this action, we considered the urgency associated with the subject unsafe condition and the practical aspect of accomplishing the required actions within a period of time that corresponds to the normal scheduled maintenance for most affected operators. However, according to the provisions of paragraph (l) of this AD, we might approve requests to adjust the compliance time if the request includes data that prove that the new compliance time would provide an acceptable level of safety.

Request To Require the Incorporation of AWL No. 28-AWL-24

The ATA, on behalf of its member Delta Airlines (DAL), notes that AD 2008-06-03 requires a revision to the AWLs section of the Instructions for Continued Airworthiness to incorporate AWLs No. 28-AWL-21, No. 28-AWL-22, and No. 28-AWL-24. DAL states that AD 2008-06-03 appears to duplicate the proposed requirements of the NPRM, and that it is more appropriate to have this AD require the incorporation of AWLs No. 28-AWL-21, No. 28-AWL-22, and No. 28-AWL-24.

We infer that the commenters request that we delete paragraph (h)(1) from AD 2008-06-03, and revise this AD to require incorporating AWL No. 28-AWL-24 into the AWLs section of the Instructions for Continued Airworthiness. (This AD requires the incorporation of AWLs No. 28-AWL-01 through No 28-AWL-22 and specifies that AWL No. 28-AWL-24 may be incorporated as an optional action.) We do not agree to revise this AD or AD 2008-06-03. Revision March 2008 of the MPD contains an applicability column that identifies the airplane configuration to which the AWL applies. That AWL is required only for airplanes that have that configuration. If the applicability column identifies a service bulletin, then the operator would not need to adhere to the AWL until the airplane is modified in accordance with that service bulletin. There is no penalty for incorporating the AWL before accomplishing the actions specified in the service bulletin, and doing so actually reduces the paperwork burden for the FAA and the operators by incorporating subsections E, F, and G in their entirety.

Also, it is necessary to have AD 2008-06-03 require the incorporation of AWLs No 28-AWL-21, No. 28-AWL-22, and No. 28-AWL-24, since those AWLs are tied to the design change required by paragraph (g) of AD 2008-06-03. If an operator were to comply with AD 2008-06-03 before complying with this AD and did not revise its MPD concurrently with accomplishing the design change, then the operations checks required by those AWLs would not be performed at the proper time.

However, we do not intend for operators to incorporate AWLs No. 28-AWL-21 and No. 28-AWL-22 into the AWLs section of the Instructions for Continued Airworthiness twice by two separate airworthiness directives. As stated previously, we have added a new paragraph (k) to this AD specifying that incorporating AWLs No. 28-AWL-21, No. 28-AWL-22, and No. 28-AWL-24 in accordance with paragraph (g) of this AD terminates the action required by paragraph (h)(1) of AD 2008-06-03.

Request To Issue Separate Airworthiness Directives

The ATA, on behalf of its member American Airlines (AAL), requests that we delete the initial inspection and repair specified in paragraph (h) of the NPRM and address those actions with a separate airworthiness directive. AAL states that the different actions and compliance times proposed in paragraphs (g) and (h) of the NPRM create confusion and difficulty in tracking compliance. AAL also states that it will not be able to say it is fully compliant with the requirements of the NPRM by December 16, 2008, because it will still be in the process of completing the initial inspection and repair specified in paragraph (h) of the NPRM.

AirTran Airways states that it is unclear as to why AWL No. 28-AWL-03 is given special consideration in paragraph (h) of the NPRM. AirTran Airways also states that, although it is not affected by the compliance time specified in paragraph (h)(2) of the NPRM, it assumes that there are other operators who will be affected by it due to the age of the fleet. AirTran Airways, therefore, requests that we substantiate why the NPRM contains a more restrictive requirement for AWL No. 28-AWL-03.

We disagree with issuing a separate airworthiness directive to address the requirements of the paragraph (h) of this AD. Some airplanes might have already passed the age when the initial inspection required by AWL No. 28-AWL-03 should have been accomplished. The intent of paragraph (h) of this AD is to phase in that inspection for those airplanes. Further, paragraph (h)(2) of this AD provides a 24-month grace period for an airplane that has already exceeded the compliance threshold specified in paragraph (h)(1) of this AD. No change to this AD is necessary in this regard.

Request To Revise Appendix 1

Boeing requests that we revise Appendix 1 of the NPRM to add an additional ATA section for AWL No. 28-AWL-02 and for AWL No. 28-AWL-17. The ATA, on behalf of its member DAL, requests that we revise Appendix 1 of the NPRM as follows: (1) add the task title for AWLs No. 28-AWL-08, No. 28-AWL-12, No. 28-AWL-13, and No. 28-AWL-22 based on the information found in the MPD, (2) add the “ALI/CDCCL” designation, airplane maintenance manual (AMM) reference, and task title for AWL No. 28-AWL-20 based on the information in the MPD, and (3) delete any duplicate sources of service information and reference a single source document that provides the task instructions necessary to comply with the AWLs.

We disagree with revising the AMM references, since we have deleted Appendix 1 from this AD. The purpose of Appendix 1 was to assist operators in identifying the AMM tasks that could affect compliance with a CDCCL. However, we have also received several similar comments regarding the appendices in other NPRMs that address the same unsafe condition on other Boeing airplanes. Those comments indicate that including non-required information in those NPRMs has caused confusion. Further, Revision March 2008 of the MPD contains most of the updated information that is listed in Appendix 1 of the NPRM. Therefore, we have removed Appendix 1 from this AD.

Request To Revise Note 2

Boeing requests that we revise Note 2 of the NPRM to clarify the need for an AMOC. Boeing states that the current wording is difficult to follow, and that the note is meant to inform operators that an AMOC to the required MPD AWLs might be required if an operator has previously modified, altered, or repaired the areas addressed by the limitations. Boeing requests that we revise Note 2 as follows:

• Add the words “according to paragraph (g)” at the end of the first sentence.

• Replace the words “revision to” with “deviation from” in the last sentence.

• Delete the words “(g) or” and “as applicable” from the last sentence.

As stated previously, we have clarified the language in Note 2 of this AD for standardization with other similar ADs. The language the commenter requests that we change does not appear in the revised note. Therefore, no additional change to this AD is necessary in this regard.

Request To Extend the Grace Period for AWL No. 28-AWL-03

KLM expects to have problems accomplishing the initial inspection of AWL No. 28-AWL-03 within the 24-month grace period. The commenter states that if it does the check and does not reach the specified values, then tank entry outside of heavy maintenance would be necessary. The commenter also states that it would be helpful to plan to do this inspection during an overhaul.

We infer that KLM requests that we extend the grace period for AWL No. 28-AWL-03 in paragraph (h)(2) of this AD to allow accomplishing the initial inspection during a regularly scheduled “D” check (about 6 years). We disagree with extending the grace period to 6 years. In developing an appropriate compliance time for this action, we considered the safety implications, the rate of lightning strikes in the fleet, and the average age of the fleet. In consideration of these items, we have determined that an initial compliance time of 120 months (as discussed previously) with a grace period of 24 months will ensure an acceptable level of safety. We have not changed the grace period for AWL No. 28-AWL-03 in this regard.

Request To Revise the Estimated Costs Table

The ATA, on behalf of its member DAL, states that it disagrees with the cost estimate for accomplishing the inspection provided in the “Estimated Costs” table of the NPRM because it does not include the time required for accomplishing the additional repetitive inspections. DAL also states that it will take much more than eight hours to accomplish the initial inspection.

We infer the commenters request that we revise the “Estimated Cost” table in this AD to reflect the cost of accomplishing the repetitive inspections. We do not agree because the repetitive inspections are not directly required by this AD. This AD only requires the change to the maintenance program via a revision to the MPD, and the initial accomplishment of AWL No. 28-AWL-03. Section 91.403(c) of the Federal Aviation Regulations (14 CFR part 91.403(c)) requires the repetitive inspections once the maintenance program is changed. Although DAL states the initial inspection takes more than 8 hours, it has not provided an estimate. Therefore, we have not changed this AD in this regard.

Conclusion

We reviewed the relevant data, considered the comments received, and determined that air safety and the public interest require adopting the AD with the changes described previously. We also determined that these changes will not increase the economic burden on any operator or increase the scope of the AD.

Costs of Compliance

There are about 1,960 airplanes of the affected design in the worldwide fleet. The following table provides the estimated costs, at an average labor rate of $80 per work hour, for U.S. operators to comply with this AD.

Estimated Costs
Action | Work hours | Parts | Cost per airplane | Number of U.S.-registered airplanes | Fleet cost
AWLs revision | 8 | None | $640 | 682 | $436,480
Inspection | 8 | None | 640 | 682 | 436,480

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-10-10 Boeing: Amendment 39-15516. Docket No. FAA-2007-28384; Directorate Identifier 2006-NM-165-AD.

Effective Date

(a) This airworthiness directive (AD) is effective June 12, 2008.

Affected ADs

(b) None.

Applicability

(c) This AD applies to Boeing Model 737-600, -700, -700C, -800, and -900 series airplanes, certificated in any category, with an original standard airworthiness certificate or original export certificate of airworthiness issued before March 31, 2006.

Note 1: Airplanes with an original standard airworthiness certificate or original export certificate of airworthiness issued on or after March 31, 2006, must already be in compliance with the airworthiness limitations specified in this AD because those limitations were applicable as part of the airworthiness certification of those airplanes.

Note 2: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance (AMOC) according to paragraph (l) of this AD. The request should include a description of changes to the required inspections that will ensure the continued operational safety of the airplane.

Unsafe Condition

(d) This AD results from a design review of the fuel tank systems. We are issuing this AD to prevent the potential for ignition sources inside fuel tanks caused by latent failures, alterations, repairs, or maintenance actions, which, in combination with flammable fuel vapors, could result in a fuel tank explosion and consequent loss of the airplane.

Compliance

(e) You are responsible for having the actions required by this AD performed within the compliance times specified, unless the actions have already been done.

Service Information Reference

(f) The term “Revision March 2008 of the MPD,” as used in this AD, means Boeing Temporary Revision (TR) 09-020, dated March 2008. Boeing TR 09-020 is published as Section 9 of the Boeing 737-600/700/800/900 Maintenance Planning Data (MPD) Document, D626A001-CMR, Revision March 2008.

Revision to Airworthiness Limitations (AWLs) Section

(g) Before December 16, 2008, revise the AWLs section of the Instructions for Continued Airworthiness (ICA) by incorporating into the MPD the information in the subsections specified in paragraphs (g)(1), (g)(2), and (g)(3) of this AD; except that the initial inspection required by paragraph (h) of this AD must be done at the applicable compliance time specified in that paragraph. Accomplishing the revision in accordance with a later revision of the MPD is an acceptable method of compliance if the revision is approved by the Manager, Seattle Aircraft Certification Office (ACO), FAA.

(1) Subsection E, “AIRWORTHINESS LIMITATIONS—FUEL SYSTEMS,” of Revision March 2008 of the MPD.

(2) Subsection F, “PAGE FORMAT: FUEL SYSTEM AIRWORTHINESS LIMITATIONS,” of Revision March 2008 of the MPD.

(3) Subsection G, “AIRWORTHINESS LIMITATIONS—FUEL SYSTEM AWLs,” AWLs No. 28-AWL-01 through No. 28-AWL-22 inclusive, of Revision March 2008 of the MPD. As an optional action, AWLs No. 28-AWL-23 and No. 28-AWL-24, as identified in Subsection G of Revision March 2008 of the MPD, also may be incorporated into the AWLs section of the ICA.

Initial Inspection and Repair if Necessary

(h) At the later of the compliance times specified in paragraphs (h)(1) and (h)(2) of this AD, do a special detailed inspection of the lightning shield to ground termination on the out-of-tank fuel quantity indication system (FQIS) wiring to verify functional integrity, in accordance with AWL No. 28-AWL-03 of Subsection G of Revision March 2008 of the MPD. If any discrepancy is found during the inspection, repair the discrepancy before further flight in accordance with AWL No. 28-AWL-03 of Subsection G of Revision March 2008 of the MPD. Accomplishing the actions required by this paragraph in accordance with a later revision of the MPD is an acceptable method of compliance if the revision is approved by the Manager, Seattle ACO. Accomplishing AWL No. 28-AWL-03 as part of an FAA-approved maintenance program before the applicable compliance time specified in paragraph (h)(1) or (h)(2) of this AD constitutes compliance with the requirements of this paragraph.

Note 3: For the purposes of this AD, a special detailed inspection is: “An intensive examination of a specific item, installation, or assembly to detect damage, failure, or irregularity. The examination is likely to make extensive use of specialized inspection techniques and/or equipment. Intricate cleaning and substantial access or disassembly procedure may be required.”

(1) Within 120 months since the date of issuance of the original standard airworthiness certification or the date of issuance of the original export certificate of airworthiness.

(2) Within 24 months after the effective date of this AD.

No Alternative Inspections, Inspection Intervals, or Critical Design Configuration Control Limitations (CDCCLs)

(i) After accomplishing the actions specified in paragraphs (g) and (h) of this AD, no alternative inspections, inspection intervals, or CDCCLs may be used unless the inspections, intervals, or CDCCLs are part of a later revision of Revision March 2008 of the MPD that is approved by the Manager, Seattle ACO; or unless the inspections, intervals, or CDCCLs are approved as an AMOC in accordance with the procedures specified in paragraph (l) of this AD.

Credit for Actions Done According to Previous Revisions of the MPD

(j) Actions done before the effective date of this AD in accordance with the following MPDs are acceptable for compliance with the corresponding requirements of paragraphs (g) and (h) of this AD: Section 9 of the Boeing 737-600/700/700C/700IGW/800/900 MPD Document, D626A001-CMR, Revision March 2006; Revision May 2006; Revision October 2006; Revision November 2006; or Revision November 2006 R1; and Section 9 of the Boeing 737-600/700/800/900 MPD Document, D626A001-CMR, Revision March 2007; Revision March 2007 R1; Revision March 2007 R2; or Revision February 2008.

Terminating Action for AD 2008-06-03, Amendment 39-15415

(k) Incorporating AWLs No. 28-AWL-21, No. 28-AWL-22, and No. 28-AWL-24 into the AWLs section of the ICA in accordance with paragraph (g) of this AD terminates the action required by paragraph (h)(1) of AD 2008-06-03.

Alternative Methods of Compliance (AMOCs)

(l)(1) The Manager, Seattle ACO, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(m) You must use Boeing Temporary Revision 09-020, dated March 2008, to the Boeing 737-600/700/800/900 Maintenance Planning Data (MPD) Document, D626A001-CMR, to do the actions required by this AD, unless the AD specifies otherwise. Boeing Temporary Revision 09-020 is published as Section 9 of the Boeing 737-600/700/800/900 Maintenance Planning Data (MPD) Document, D626A001-CMR, Revision March 2008.

(1) The Director of the Federal Register approved the incorporation by reference of this service information under 5 U.S.C. 552(a) and 1 CFR part 51.

(2) For service information identified in this AD, contact Boeing Commercial Airplanes, P.O. Box 3707, Seattle, Washington 98124-2207.

(3) You may review copies of the service information incorporated by reference at the FAA, Transport Airplane Directorate, 1601 Lind Avenue SW., Renton, Washington; or at the National Archives and Records Administration (NARA). For information on the availability of this material at NARA, call 202-741-6030, or go to: http://www.archives.gov/federal_register/code_of_federal_regulations/ibr_locations.html.

Issued in Renton, Washington, on April 29, 2008.
Ali Bahrami,
Manager, Transport Airplane Directorate, Aircraft Certification Service.

[FR Doc. E8-9919 Filed 5-7-08; 8:45 am]

BILLING CODE 4910-13-P